DEPARTMENT OF TRANSPORTATION

Federal Aviation Administration

14 CFR Part 71

[Docket No. FAA-2023-0502; Airspace Docket No. 23-ASO-09]

RIN 2120-AA66

Amendment of Class E Airspace; Augusta, GA

AGENCY: Federal Aviation Administration (FAA), DOT.

ACTION: Final rule.

SUMMARY: This amends Class E airspace extending upward from 700 feet above the surface in Augusta, GA, as the result of new procedures developed for the Augusta University Medical Center and Children's Hospital of Georgia Heliport. This action establishes Class E airspace extending upward from 700 feet above the surface within a 6-mile radius of the Augusta University Medical Center and Children's Hospital of Georgia. The FAA will also update the geographical coordinates for the Emory non-directional beacon (NDB) in the Augusta Class E5 legal description to align with information located in the FAA's database.

DATES: Effective date 0901 UTC, October 5, 2023. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours a day, 365 days a year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Jennifer Ledford, Operations Support Group, Eastern Service Center, Federal Aviation Administration, 1701 Columbia Avenue, College Park, GA 30337; Telephone: (404) 305-5946.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it amends airspace for Augusta University Medical Center and Children's Hospital of Georgia Heliport, Augusta, GA, to support IFR operations in the area.

History

The FAA published a notice of proposed rulemaking for Docket No. FAA 2023-0502 in the Federal Register (88 FR 18264: March 28, 2023), amending Class E airspace extending upward from 700 feet above the surface at the Augusta University Medical Center and Children's Hospital of Georgia Heliport. One comment was received concerning whether the airspace would be exclusive to medical aircraft or if it would be open to the public. The controlled airspace surrounding Augusta University Medical Center and Children's Hospital was established to provide for the safety and management of instrument flight rules operations in the area, as a new instrument approach procedure was recently developed for the heliport. All aircraft operating within the Class E airspace must adhere to the requirements set forth in 14 CFR 91.127.

Differences From the NPRM

Subsequent to the publication of the Notice of Proposed Rulemaking, the FAA found that the geographical coordinates for the Emory NDB did not align with the information found in FAA's database. This action updates the Emory NDB geographical coordinates.

Incorporation by Reference

Class E airspace designations are published in paragraph 6005 of FAA Order JO 7400.11, Airspace Designations and Reporting Points, which is incorporated by reference in 14 CFR 71.1 annually. This document amends the current version of that order, FAA Order JO 7400.11G, dated August 19, 2022, and effective September 15, 2022. FAA Order JO 7400.11G is publicly available as listed in the ADDRESSES section of this document. These amendments will be published in the next FAA Order JO 7400.11 update.

FAA Order JO 7400.11G lists Class A, B, C, D, and E airspace areas, air traffic service routes, and reporting points.

The Rule

This action amends 14 CFR part 71 by amending Class E airspace extending upward from 700 feet above the surface in Augusta, GA, by establishing Class E airspace extending upward from the surface within a 6-mile radius of the Augusta University Medical Center and Children's Hospital of Georgia. This airspace will allow medical transport helicopters to fly during inclement weather and will be included in the Augusta, GA, Class E5 legal description. In addition, this action will update the Emory NDB geographical coordinates in the Augusta, GA, Class E5 legal description to align with the information found in the FAA's database.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5. a. This airspace action is not expected to cause any potentially significant environmental impacts, and no extraordinary circumstances exist that warrant preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6005 Class E Airspace Areas Extending Upward From 700 Feet or More Above the Surface of the Earth.

* * * * *

ASO GA E5 Augusta, GA [Amended]

Augusta Regional Airport at Bush Field, GA

(Lat 33°22′12″ N, long 81°57′52″ W)

Daniel Field

(Lat 33°28′00″ N, long 82°02′22″ W)

Augusta University Medical Center and Children's Hospital of Georgia

(Lat 33°28′17″ N, long 81°59′17″ W)

Emory NDB

(Lat 33°27′46″ N, long 81°59′49″ W)

That airspace extending upward from 700 feet above the surface within an 8.6-mile radius of Augusta Regional Airport at Bush Field and within 3.2 miles on either side of the 168° bearing from the airport extending from the 8.6-mile radius to 12.5 miles south of the airport, and within a 7-mile radius of Daniel Field, and a 6-mile radius of Augusta University Medical Center and Children's Hospital of Georgia, and within 8 miles west and 4 miles east of the 349° bearing from the Emory NDB extending from the 7-mile radius of Daniel Field and the 6-mile radius of Augusta University Medical Center and Children's Hospital of Georgia to 16 miles north of the Emory NDB.

* * * * *

Issued in College Park, GA, on June 12, 2023.
Andreese C. Davis,
Manager Airspace & Procedures Team South, Eastern Service Center, Air Traffic Organization.

[FR Doc. 2023-12956 Filed 6-15-23; 8:45 am]

BILLING CODE 4910-13-P